DEPARTMENT OF AGRICULTURE

Agricultural Marketing Service

7 CFR Part 60

[Docket Number LS-03-04]

RIN 0581-AC26

Mandatory Country of Origin Labeling of Fish and Shellfish

AGENCY: Agricultural Marketing Service, USDA.

ACTION: Interim final rule; reopening of comment period.

SUMMARY: The Agricultural Marketing Service (AMS) is reopening the comment period for 90 days for the interim final rule for mandatory country of origin labeling (COOL) for fish and shellfish covered commodities that was published in the Federal Register on October 5, 2004 (69 FR 59708). The interim final rule for fish and shellfish became effective on April 4, 2005. The interim final rule imposes requirements on certain retailers and their suppliers to notify their customers of the country of origin and the method of production (wild and/or farm-raised) of specified fish and shellfish products. The interim final rule also specifies recordkeeping responsibilities for affected retailers and their suppliers. AMS requests general comment on the costs and benefits of the interim final rule as well as the specific questions that are listed in this document. All affected persons are hereby given notice of the opportunity to submit written data and views concerning the economic impacts of the interim final rule. AMS will review the submitted comments and information as it promulgates a final rule for mandatory COOL for fish and shellfish. Comments received on issues that are outside the scope of the costs and benefits of the interim final rule will not be considered.

DATES: Comments must be submitted on or before February 26, 2007, to be assured of consideration.

ADDRESSES: Send written comments to: Country of Origin Labeling Program, Room 2607-S; Agricultural Marketing Service (AMS), USDA; STOP 0254; 1400 Independence Avenue, SW., Washington, DC 20250-0254, or by facsimile to (202) 720-1112, or by e-mail to cool@usda.gov. Comments can also be submitted on the Internet at: http://www.regulations.gov. Comments received will be posted to the AMS Web site at: http://www.ams.usda.gov/cool/. Comments sent to the above location that specifically pertain to the information collection and recordkeeping requirements should also be sent to the Desk Officer for Agriculture, Office of Information and Regulatory Affairs, Office of Management and Budget (OMB), New Executive Office Building, 725 17th Street, NW., Room 725, Washington, DC 20503.

FOR FURTHER INFORMATION CONTACT: Martin O'Connor, Chief, Standards, Analysis and Technology Branch, Livestock and Seed Program, AMS, USDA, by telephone on (202) 720-4486, or via e-mail to: martin.oconnor@usda.gov.

SUPPLEMENTARY INFORMATION: The Farm Security and Rural Investment Act of 2002 (Farm Bill)(Pub. L. 107-171) and the 2002 Supplemental Appropriations Act (Appropriations Act)(Pub. L. 107-206) amended the Agricultural Marketing Act of 1946 (7 U.S.C. 1621 et seq.) by adding 7 U.S.C. 1638-1638d to direct the Secretary of Agriculture to promulgate regulations by September 30, 2004, requiring retailers to notify their customers of the country of origin of covered commodities. On October 30, 2003, AMS published a proposed rule for mandatory COOL for beef, lamb, pork, fish, perishable agricultural commodities, and peanuts (68 FR 61944). Subsequently, the FY 2004 Consolidated Appropriations Act (Pub. L. 108-199) delayed the applicability of mandatory COOL for all covered commodities except wild and farm-raised fish and shellfish until September 30, 2006. The Agriculture, Rural Development, Food and Drug Administration, and Related Agencies Appropriations Act of 2006 (Pub. L. 109-97) further delayed the applicability of mandatory COOL for all covered commodities except wild and farm-raised fish and shellfish until September 30, 2008. On October 5, 2004, AMS published an interim final rule (69 FR 59708) for the mandatory country of origin labeling program for fish and shellfish. The interim final rule became effective on April 4, 2005. Comments were requested and were to be submitted on or before January 3, 2005.

In preparation for promulgating a final rule for mandatory COOL for fish and shellfish, AMS seeks comment only on the economic impacts of the interim final rule at this time. Given that the interim final rule has been in effect for more than a year and a half, affected retailers and their suppliers now have considerable experience in complying with the its requirements. AMS invites affected persons to comment on the costs and benefits of the interim final rule. Results of independent studies and analyses are also invited. AMS is particularly interested in written data, views, and facts pertaining to initial costs to implement the requirements of the interim final rule, ongoing costs to maintain compliance, the burden of the information collection and recordkeeping requirements, and any concomitant benefits resulting from the mandatory COOL program. Comments and information received on these issues, to the extent relevant, will be reviewed in connection with any final regulatory action on a mandatory COOL program for any of the other covered commodities. Comments received on issues that are outside the scope of the costs and benefits of the interim final rule will not be considered.

While AMS welcomes all comments relating to the economic impacts of the implementation of the interim rule, comments addressing the following questions are of special interest:

Implementation Costs

What costs were incurred by affected retailers and their suppliers to become compliant with the interim rule? What, if any, changes in operational procedures were required to implement the requirements of the interim rule?

What, if any, capital costs were incurred to become compliant with the interim rule? Did the interim rule require the purchase of additional computer systems, labeling systems, or other equipment?

How many labor hours were required to become compliant with the interim rule, and what types of labor were required? What types of labor activities were required (e.g., strategic planning, software and systems development, training), and how much time was spent on each activity? What categories of personnel were required, and what were costs for each category of labor? What total labor costs were incurred?

Maintenance Costs

What costs are incurred annually by affected retailers and their suppliers to maintain compliance with the interim rule? What, if any, changes in operational procedures are required to maintain compliance the requirements of the interim rule?

What capital replacement costs are incurred?

How many labor hours are incurred annually? What activities are performed (e.g., label application, data entry, software maintenance, training), and how much time is spent on each activity? What categories of personnel are required, and what are costs for each category of labor? What total labor costs are incurred?

Benefits

What economic benefits have resulted from implementation of the interim rule?

Has there been any overall demand response as a result of the labeling requirements for country of origin and method of production of fish and shellfish?

What product selection and purchase responses from customers have been observed as a result of the labeling program? Do customers seek and act on the country of origin and method of production information?

Have customers modified their purchase decisions based on the country of origin for labeled fish and shellfish products? If so, how?

Have customers modified their purchase decisions based on the method of production (farm-raised and/or wild) for labeled fish and shellfish products? If so, how?

Net Economic Impact

What are the net economic impacts resulting from implementation of the interim final rule? Are the benefits greater or less than the costs of implementation?

Authority: 7 U.S.C. 1621 et seq.

Dated: November 20, 2006.
Lloyd C. Day,
Administrator, Agricultural Marketing Service.

[FR Doc. E6-19962 Filed 11-24-06; 8:45 am]

BILLING CODE 3410-02-P